DEPARTMENT OF THE INTERIOR

Bureau of Indian Affairs

Proposed Agency Information Collection Activities; Comment Request

AGENCY: Bureau of Indian Affairs, Interior.

ACTION: Notice of renewal.

SUMMARY: This notice announces that the Information Collection Request for the Indian Service Population and Labor Force Estimates, OMB No. 1076-0147, requires renewal. The Bureau of Indian Affairs (BIA) in accordance with the Paperwork Reduction Act is soliciting comments on the proposed information collection.

DATES: Submit comments on or before December 18, 2001.

ADDRESSES: Your comments and suggestions on the requirements should be made directly to Mr. Harry Rainbolt, Budget Officer, Office of Tribal Services, Bureau of Indian Affairs, Department of the Interior, 1849 C Street NW., MS-4660-MIB, Washington, DC 20240. Telephone (202) 208-3463.

FOR FURTHER INFORMATION CONTACT: Copies of the documents contained in the information collection request may be obtained by contacting Mr. Harry Rainbolt at (202) 208-3463.

SUPPLEMENTARY INFORMATION:

I. Abstract

The information is mandated by Congress through Public Law 102-477, Indian Employment, Training and Related Services Demonstration Act of 1992, section 17. The Act requires the Secretary to develop, maintain and publish, not less than biennially, a report on the population by gender, income level, age, service area, and availability for work. The information is used by the U.S. Congress, other Federal agencies, State and local governments and private sectors for the purpose of developing programs, planning, and to award financial assistance to American Indians. An agency may not conduct or sponsor, nor is any person required to respond to a collection of information unless it displays a currently valid OMB control number.

II. Request for Comments

We specifically request your comments on the following:

1. Whether the collection of information is necessary for the proper performance of the functions of the BIA, including whether the information will have practical utility;

2. The accuracy of the BIA's estimate of the burden of the information collection, including the validity of the methodology and assumptions used;

3. The quality, utility and clarity of the information to be collected; and,

4. How to minimize the burden of the information collection on those who are to respond, including the use of appropriate automated electronic, mechanical or other forms of information technology.

III. Data

Title of the Collection of Information: Department of the Interior, Bureau of Indian Affairs, Indian Service Population and Labor Force Estimates.

OMB Number: 1076-0147.

Affected Entities: American Indians and Alaska Natives, members and non-members, who are living on or near the tribe's defined service area and who are eligible for Bureau of Indian Affairs services.

Frequency of Response: Biennially.

Estimated Number of Biennial Responses: 561.

Estimated Time per Response: ½ hour.

Estimated Total Annual Burden Hours: 140 hours annually.

Dated: October 4, 2001.
Neal A. McCaleb,
Assistant Secretary—Indian Affairs.

[FR Doc. 01-26445 Filed 10-18-01; 8:45 am]

BILLING CODE 4310-02-P